DEPARTMENT OF ENERGY

Federal Energy Regulatory Commission

[Docket No. EL88-1-008, et al.]

Indiana & Michigan Municipal Distributors Association and City of Auburn, Indiana et al.; Electric Rate and Corporate Filings

January 4, 2005.

The following filings have been made with the Commission. The filings are listed in ascending order within each docket classification.

1. Indiana & Michigan Municipal Distributors Association and City of Auburn, Indiana v. Indiana Michigan Power Company

[Docket Nos. EL88-1-008, ER88-31-007 and ER88-32-007]

Take notice that on December 28, 2004, Indiana Michigan Power Company (I&M) tendered a compliance filing, pursuant to the Commission's June 3, 1992, Opinion No. 373 and Order on Initial Decision, 59 FERC ¶61,260, which addressed, among other things, the appropriateness of periodic reviews of nuclear decommissioning costs and funding.

I&M states that copies of the filing were served upon its current jurisdictional customers, the Indiana Utility Regulatory Commission, and the Michigan Public Service Commission.

Comment Date: 5 p.m. Eastern Time on January 18, 2005.

2. Carolina Power & Light Company, Florida Power Corporation

[Docket Nos. ER01-1807-015, ER01-2020-012]

Take notice that on December 3, 2004, Carolina Power & Light Company d/b/a Progress Energy Carolinas, Inc., submitted a compliance filing consisting of two refund reports pursuant to the Commission's Order issued May 21, 2003 in Docket No. ER01-1807-005, et al., 103 FERC 61,209 (2003).

Carolina Power & Light Company states that copies of the filing were served upon the North Carolina Utilities Commission and the South Carolina Public Service Commission.

Comment Date: 5 p.m. Eastern Time on January 14, 2005.

3. Armstrong Limited Energy Partnership, LLC; Dominion Energy Marketing, Inc.; Dominion Nuclear Connecticut, Inc.; Dominion Nuclear Marketing I, Inc.; Dominion Nuclear Marketing II, Inc.; Dominion Nuclear Marketing III, Inc.; Dresden Energy, LLC; Elwood Energy, LLC; Fairless Energy, LLC; Kincaid Generation, LLC; Pleasants Energy, LLC; State Line Energy, LLC; Troy Energy, LLC; Virginia Electric & Power Company

[Docket Nos. ER02-24-004, ER01-468-003, ER00-3621-004, ER00-3620-003, ER00-3619-003, ER00-3746-005, ER02-22-004, ER99-1695-004, ER02-23-006, ER99-1432-005, ER02-26-004, ER96-2869-007, ER02-25-004, ER00-1737-005]

Take notice that, on December 27, 2004 Dominion Resources Services on behalf of Armstrong Limited Energy Partnership, LLP, Dominion Energy Marketing, Inc., Dominion Nuclear Connecticut, Inc., Dominion Nuclear Marketing I, Inc., Dominion Nuclear Marketing II, Inc., Dominion Nuclear Marketing III, Inc., Dresden Energy, LLC, Elwood Energy, LLC, Fairless Energy, LLC, Kincaid Generation, LLC, Pleasants Energy, LLC, State Line Energy, LLC, Troy Energy, LLC and Virginia Electric & Power Company submitted its response to the Commission's May 13, 2004 Order Implementing New Generation Market Power Analysis and Mitigation Procedures, 107 FERC 61,168.

Comment Date: 5 p.m. Eastern Time on January 19, 2005.

4. Ameren Services Company, First Energy Corp., Northern Indiana Public Service Company, National Grid USA, Midwest Independent Transmission System Operator, Inc.

[Docket Nos. ER02-2233-012, EC03-14-006]

Take notice that, on December 28, 2004, the Midwest Independent Transmission System Operator, Inc. (Midwest ISO) filed certain cost information pertaining to transmission-related services performed for the Midwest ISO by GridAmerica LLC in compliance with the Commission's December 19, 2002 Order, Ameren Services Company, et al., 101 FERC ¶ 61, 320 (2002).

The Midwest ISO requested waiver of the service requirements set forth in 18 CFR 385.2010. Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter and that the Midwest ISO will provide hard copies to any interested parties upon request.

Comment Date: 5 p.m. Eastern Time on January 18, 2005.

5. Pacific Gas and Electric Company

[Docket No. ER04-415-004]

Take notice that on December 30, 2004, Pacific Gas and Electric Company (PG&E) submitted a compliance filing pursuant to Ordering Paragraph E of the Commission's Order issued November 30, 2004, in Docket Nos. ER04-415-000, 001 and 002, 109 FERC 61,242 (2004).

PG&E states that copies of this filing have been served on Berry Tannehill, Berry University, Big Creek, the California Independent System Operator Corporation, California Public Utilities Commission, and the parties in Docket No. ER04-415.

Comment Date: 5 p.m. Eastern Time on January 21, 2005.

6. Illinois Power Company

[Docket No. ER04-1254-002]

Take notice that on December 20, 2004, Illinois Power Company (Illinois Power) submitted revised sheets to it Open Access Transmission Tariff pursuant to the Commission's Order issued November 19, 2004 in Docket Nos. ER04-1239-000 and ER04-1254-000, 109 FERC 61,185. Illinois Power requested an October 1, 2004 effective date for the revised sheets.

Comment Date: 5 p.m. Eastern Time on January 11, 2005.

7. Geysers Power Company, LLC

[Docket No. ER05-253-001]

Take notice that on December 27, 2004, Geysers Power Company, LLC (Geysers Power) submitted substitute revised rate schedule sheets to Geysers Power Company's Rate Schedule FERC No. 5 to correct inadvertent errors in its November 23, 2004 filing in Docket No. ER05-523-000.

Geysers Power states that copies of the filing were served upon the official service list.

Comment Date: 5 p.m. Eastern Time on January 18, 2005.

8. Upper Peninsula Power Company

[Docket No. ES05-15-000]

Take notice that on December 22, 2004, Upper Peninsula Power Company (Upper Peninsula) submitted an application pursuant to section 204 of the Federal Power Act seeking authorization to issue short-term debt in an amount not to exceed $20 million at any time.

Upper Peninsula also requests a waiver of the Commission's competitive bidding and negotiated placement requirements at 18 CFR 34.2.

Comment Date: 5 p.m. Eastern Time on January 25, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-83 Filed 1-11-05; 8:45 am]

BILLING CODE 6717-01-P